DEPARTMENT OF HOMELAND SECURITY

Federal Emergency Management Agency

[Docket ID FEMA-2012-0003; Internal Agency Docket No. FEMA-B-1280]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Arizona:
Maricopa | City of Goodyear (12-09-1661P) | The Honorable Georgia Lord, Mayor, City of Goodyear, 190 North Litchfield Road, Goodyear, AZ 85338 | City Hall, 190 North Litchfield Road, Goodyear, AZ 85338 | http://www.r9map.org/Docs/12-09-1661P-040046-102DA.pdf | February 1, 2013 | 040046
Maricopa | Town of Cave Creek (12-09-1536P) | The Honorable Vincent Francia, Mayor, Town of Cave Creek, 37622 North Cave Creek Road, Cave Creek, AZ 85331 | 37622 North Cave Creek, Cave Creek, AZ 85331 | http://www.r9map.org/Docs/12-09-1536P-040129-102IAC.pdf | January 4, 2013 | 040129
Maricopa | Unincorporated areas of Maricopa County (12-09-1661P) | The Honorable Max W. Wilson, Chairman, Maricopa County Board of Supervisors, 301 West Jefferson Street, 10th Floor, Phoenix, AZ 85003 | Maricopa County Flood Control District, 2801 West Durango Street, Phoenix, AZ 85009 | http://www.r9map.org/Docs/12-09-1661P-040037-102DA.pdf | February 1, 2013 | 040037
Maricopa | Unincorporated Areas of Maricopa County (12-09-1536P) | The Honorable Max W. Wilson, Chairman, Maricopa County Board of Supervisors, 301 West Jefferson Street, 10th Floor, Phoenix, AZ 85003 | Maricopa County Flood Control District, 2801 West Durango Street, Phoenix, AZ 85009 | http://www.r9map.org/Docs/12-09-1536P-040037-102IAC.pdf | January 4, 2013 | 040037
Pinal | City of Apache Junction (11-09-3907P) | The Honorable John S. Insalaco, Mayor, City of Apache Junction, 300 East Superstition Boulevard, Apache Junction, AZ 85119 | Public Works Department, 1001 North Idaho Road, Apache Junction, AZ 85219 | http://www.r9map.org/Docs/11-09-3907P-040120-102IAC.pdf | October 16, 2012 | 040120
California:
Fresno | Unincorporated Areas of Fresno County (12-09-1045P) | The Honorable Debbie Poochigian, Chair, Fresno County Board of Supervisors, 2281 Tulare Street, Room 300, Fresno, CA 93721 | Design Services Division, 2220 Tulare Street, 6th Floor, Fresno, CA 93721 | http://www.r9map.org/Docs/12-09-1045P-065029-102IAC.pdf | January 25, 2013 | 065029
Riverside | City of Beaumont (12-09-2411P) | The Honorable Roger Berg, Mayor, City of Beaumont, 550 East 6th Street, Beaumont, CA 92223 | 550 East 6th Street, Beaumont, CA 92223 | http://www.r9map.org/Docs/12-09-2411P-060247-102DA.pdf | February 9, 2013 | 060247
Riverside | City of Moreno Valley (12-09-0582P) | The Honorable Henry T. Garcia, City Manager, 14177 Frederick Street, Moreno Valley, CA 92553 | 14177 Frederick Street, Moreno Valley, CA 92553 | http://www.r9map.org/Docs/12-09-0582P-065074-102IAC.pdf | February 15, 2013 | 065074
San Mateo | Town of Portola Valley (12-09-1477P) | The Honorable Maryann Moise Derwin, Mayor, Town of Portola Valley, 765 Portola Road, Portola Valley, CA 94028 | Town Hall, 765 Portola Road, Portola Valley, CA 94028 | http://www.r9map.org/Docs/12-09-1477P-065052-102DA.pdf | January 10, 2013 | 065052
Solano | City of Vallejo (12-09-2640P) | The Honorable Osby Davis, Mayor, City of Vallejo, 555 Santa Clara Street, Vallejo, CA 94590 | Public Works Department, 555 Santa Clara Street, Vallejo, CA 94590 | http://www.r9map.org/Docs/12-09-2640P-060374-102DA.pdf | February 1, 2013 | 060374
Colorado:
Adams | City of Commerce City (12-08-0512P) | The Honorable Sean Ford, Sr., Mayor, City of Commerce City, 7887 East 60th Avenue, Commerce City, CO 80022 | City Hall, 7887 East 60th Avenue, Commerce City, CO 80022 | http://www.bakeraecom.com/index.php/colorado/adams/ | October 31, 2012 | 080006
Adams | Unincorporated areas of Adams County (12-08-0512P) | The Honorable W. R. “Skip” Fischer, Chairman, Adams County Board of Commissioners, 4430 South Adams County Parkway, Suite C5000A, Brighton, CO 80601 | Adams County Public Works Department, 4430 South Adams County Parkway, Suite W2123, Brighton, CO 80601 | http://www.bakeraecom.com/index.php/colorado/adams/ | October 31, 2012 | 080001
Arapahoe | Unincorporated areas of Arapahoe County (12-08-0619P) | The Honorable Nancy N. Sharpe, Chair, Arapahoe County Board of Commissioners, 5334 South Prince Street, Littleton, CO 80166 | Arapahoe County Public Works and Development Department, 6924 South Lima Street, Centennial, CO 80112 | http://www.bakeraecom.com/index.php/colorado/arapahoe/ | December 17, 2012 | 080011
Arapahoe | Unincorporated areas of Arapahoe County (12-08-0806P) | The Honorable Nancy N. Sharpe, Chair, Arapahoe County Board of Commissioners, 5334 South Prince Street, Littleton, CO 80166 | Arapahoe County Public Works and Development Department, 6924 South Lima Street, Centennial, CO 80112 | http://www.bakeraecom.com/index.php/colorado/arapahoe/ | February 1, 2013 | 080011
Larimer | Town of Wellington (12-08-0629P) | The Honorable Travis Vieira, Mayor, Town of Wellington, P.O. Box 127, Wellington, CO 80549 | Town Hall, 3735 Cleveland Street, Wellington, CO 80549 | http://www.bakeraecom.com/index.php/colorado/larimer/ | February 4, 2013 | 080104
Larimer | Unincorporated areas of Larimer County (12-08-0629P) | The Honorable Lew Gaiter III, Chairman, Larimer County Board of Commissioners, P.O. Box 1190, Fort Collins, CO 80522 | Larimer County Courthouse, 200 West Oak Street, Fort Collins, CO 80521 | http://www.bakeraecom.com/index.php/colorado/larimer/ | February 4, 2013 | 080101
Connecticut: New Haven | City of Meriden (12-01-1133P) | The Honorable Michael S. Rohde, Mayor, City of Meriden, 142 East Main Street, Meriden, CT 06450 | 142 East Main Street, Room 19, Meriden, CT 06450 | http://www.starr-team.com/starr/LOMR/Pages/RegionI.aspx | February 1, 2013 | 090081
Florida:
Bay | City of Panama City (12-04-3225P) | The Honorable Greg Brudnicki, Mayor, City of Panama City, 9 Harrison Avenue, Panama City, FL 32401 | City Hall, Engineering Department, 9 Harrison Avenue, Panama City, FL 32402 | http://www.bakeraecom.com/index.php/florida/bay-2/ | November 26, 2012 | 120012
Bay | City of Panama City Beach (12-04-4609P) | The Honorable Gayle Oberst, Mayor, City of Panama City Beach, 110 South Arnold Road, Panama City Beach, FL 32413 | City Hall, Building Department, 110 South Arnold Road, Panama City Beach, FL 32413 | http://www.bakeraecom.com/index.php/florida/bay-2/ | February 11, 2013 | 120013
Bay | Unincorporated areas of Bay County (12-04-3225P) | The Honorable George B. Gainer, Chairman, Bay County Board of Commissioners, 840 West 11th Street, Panama City, FL 32401 | Bay County Planning and Zoning Department, 707 Jenks Avenue, Suite B, Panama City, FL 32401 | http://www.bakeraecom.com/index.php/florida/bay-2/ | November 26, 2012 | 120004
Hillsborough | City of Plant City (12-04-4888P) | The Honorable Michael S. Sparkman, Mayor, City of Plant City, P.O. Box C, Plant City, FL 33563 | Engineering Division, 302 West Reynolds Street, Plant City, FL 33607 | http://www.bakeraecom.com/index.php/florida/hillsborough/ | February 1, 2013 | 120113
Orange | City of Orlando (12-04-6290P) | The Honorable Buddy Dyer, Mayor, City of Orlando, P.O. Box 4990, Orlando, FL 32808 | Permitting Services, 400 South Orange Avenue, Orlando, FL 32302 | http://www.bakeraecom.com/index.php/florida/orange-2/ | February 4, 2013 | 120186
Sarasota | Town of Longboat Key (12-04-4786P) | The Honorable Jim Brown, Mayor, Town of Longboat Key, 501 Bay Isles Road, Longboat Key, FL 34228 | Planning, Zoning, and Building Department, 501 Bay Isles Road, Longboat Key, FL 34228 | http://www.bakeraecom.com/index.php/florida/sarasota/ | February 8, 2013 | 125126
Seminole | Unincorporated areas of Seminole County (12-04-6244P) | The Honorable Brenda Carey, Chair, Seminole County Board of Commissioners, 1101 East 1st Street, Sanford, FL 32771 | Seminole County Public Works Department, 1101 East 1st Street, Sanford, FL 32771 | http://www.bakeraecom.com/index.php/florida/seminole-2/ | February 4, 2013 | 120289
Idaho:
Ada | City of Meridian (11-10-0941P) | The Honorable Tammy de Weerd, Mayor, City of Meridian, 33 East Broadway Avenue, Meridian, ID 83642 | 33 East Broadway Avenue, Meridian, ID 83642 | http://www.starr-team.com/starr/LOMR/Pages/RegionX.aspx | February 15, 2013 | 160180
Ada | Unincorporated areas of Ada County (12-10-0639P) | The Honorable Rick Yzaguirre, Chairman, Ada County Board of Commissioners, 200 West Front Street, Boise, ID 83702 | 200 West Front Street, Boise, ID 83702 | http://www.starr-team.com/starr/LOMR/Pages/RegionX.aspx | January 25, 2012 | 160001
Ada | Unincorporated areas of Ada County (11-10-0941P) | The Honorable Rick Yzaguirre, Chairman, Ada County Board of Commissioners, 200 West Front Street, Boise, ID 83702 | 200 West Front Street, Boise, ID 83702 | http://www.starr-team.com/starr/LOMR/Pages/RegionX.aspx | February 15, 2013 | 160001
Illinois:
Cook | Village of Bridgeview (12-05-6205P) | The Honorable Steven Landek, Mayor, Village of Bridgeview, 7500 South Oketo Avenue, Bridgeview, IL 60455 | 7500 South Oketo Avenue, Bridgeview, IL 60455 | http://www.starr-team.com/starr/LOMR/Pages/RegionV.aspx | January 10, 2013 | 170065
Peoria | City of Peoria (12-05-6071P) | The Honorable Jim Ardis, Mayor, City of Peoria, 419 Fulton Street, Room 207, Peoria, IL 61602 | 3505 North Dries Lane, Peoria, IL 61604 | http://www.starr-team.com/starr/LOMR/Pages/RegionV.aspx | January 18, 2013 | 170536
Peoria | City of Peoria (12-05-6047P) | The Honorable Jim Ardis, Mayor, City of Peoria, 419 Fulton Street, Room 207, Peoria, IL 61602 | 3505 North Dries Lane, Peoria, IL 61604 | http://www.starr-team.com/starr/LOMR/Pages/RegionV.aspx | February 11, 2013 | 170536
Indiana:
Lake | City of Hammond (12-05-7873P) | The Honorable Thomas M. McDermott, Jr., Mayor, City of Hammond, 5925 Calumet Avenue, Hammond, IN 46320 | 5925 Calumet Avenue, Hammond, IN 46320 | http://www.starr-team.com/starr/LOMR/Pages/RegionV.aspx | March 1, 2013 | 180134
Lake | Town of Munster (12-05-7873P) | The Honorable David Nellans, President, Munster Town Council, 1005 Ridge Road, Munster, IN 46321 | 1005 Ridge Road, Munster, IN 46321 | http://www.starr-team.com/starr/LOMR/Pages/RegionV.aspx | March 1, 2013 | 180139
Lake | Town of St. John (12-05-7462P) | The Honorable Mike Forbes, Town Council President, 10995 West 93rd Avenue, St. John, IN 46373 | 10995 West 93rd Avenue, St. John, IN 46373 | http://www.starr-team.com/starr/LOMR/Pages/RegionV.aspx | February 4, 2013 | 180141
Massachusetts: Plymouth | Town of Mattapoisett (12-01-2089P) | The Honorable Jordan C. Collyer, Chairman, Board of Selectmen, 16 Main Street, Mattapoisett, MA 02739 | 16 Main Street, Mattapoisett, MA 02739 | http://www.starr-team.com/starr/LOMR/Pages/RegionI.aspx | February 22, 2013 | 255214
Mississippi: Lamar | Unincorporated areas of Lamar County (12-04-2162P) | The Honorable Joe Bounds, Chairman, Lamar County Board of Supervisors, 403 Main Street, Purvis, MS 39475 | Lamar County Planning Department, Central Office Complex, 144 Shelby Speights Drive, Purvis, MS 39475 | http://www.bakeraecom.com/index.php/mississippi/lamar/ | February 1, 2013 | 280304
Nevada: Clark | Unincorporated areas of Clark County (12-09-1708P) | The Honorable Susan Brager, Chair, Clark County Board of Commissioners, 500 South Grand Central Parkway, Las Vegas, NV 89155 | Clark County Public Works Department, 500 South Grand Central Parkway, Las Vegas, NV 89155 | http://www.r9map.org/Docs/12-09-1708P-320003-102IAC.pdf | January 18, 2013 | 320003
Ohio: Franklin | City of Columbus (12-05-3607P) | The Honorable Michael B. Coleman, Mayor, City of Columbus, 90 West Broad Street, 2nd Floor, Columbus, OH 43215 | 1250 Fairwood Avenue, Columbus, OH 43206 | http://www.starr-team.com/starr/LOMR/Pages/RegionV.aspx | January 31, 2013 | 390170
Oregon: Jackson | Unincorporated areas of Jackson County (11-10-1120P) | The Honorable Don Skundrick, Chair, Jackson County Board of Commissioners, 10 South Oakdale Avenue, Room 100, Medford, OR 97501 | 10 South Oakdale Avenue, Medford, OR 97501 | http://www.starr-team.com/starr/LOMR/Pages/RegionX.aspx | February 22, 2013 | 415589
South Dakota:
Meade | Town of Piedmont (12-08-0611P) | The Honorable Phil Anderson, Mayor, Town of Piedmont, 111 South 2nd Street, Piedmont, SD 57769 | Town of Piedmont, 1400 Main Street, Sturgis, SD 57785 | http://www.bakeraecom.com/index.php/south-dakota/meade/ | January 28, 2013 | 461198
Meade | Unincorporated areas of Meade County (12-08-0611P) | The Honorable Alan Aker, Chairman, Meade County Board of Commissioners, 14347 Mahaffey Drive, Piedmont, SD 57769 | Meade County Emergency Management Department, 1400 Main Street, Sturgis, SD 57785 | http://www.bakeraecom.com/index.php/south-dakota/meade | January 28, 2013 | 460054
Tennessee:
Williamson | City of Franklin (12-04-6046P) | The Honorable Ken Moore, Mayor, City of Franklin, 109 3rd Avenue South, Franklin, TN 37064 | City Hall, 109 3rd Avenue South, Franklin, TN 37064 | http://www.bakeraecom.com/index.php/tennessee/williamson/ | February 4, 2013 | 470206
Williamson | Unincorporated areas of Williamson County (12-04-6046P) | The Honorable Rodgers Anderson, Mayor, Williamson County, 1320 West Main Street, Suite 125, Franklin, TN 37064 | Williamson County Complex, Planning Department, 1320 West Main Street, Suite 125, Franklin, TN 37064 | http://www.bakeraecom.com/index.php/tennessee/williamson/ | February 4, 2013 | 470204
Washington: King | City of Shoreline (12-10-0141P) | The Honorable Keith McGlashan, Mayor, City of Shoreline, 17500 Midvale Avenue North, Shoreline, WA 98133 | 17500 Midvale Avenue North, Shoreline, WA 98133 | http://www.starr-team.com/starr/LOMR/Pages/RegionX.aspx | February 4, 2013 | 530327
Wisconsin:
Brown | Village of Howard (12-05-4503P) | The Honorable Burt R. McIntyre, President, Howard Town Board of Trustees, 2456 Glendale Avenue, Green Bay, WI 54313 | 2456 Glendale Avenue, Green Bay, WI 54313 | http://www.starr-team.com/starr/LOMR/Pages/RegionV.aspx | March 4, 2013 | 550023
Trempealeau | City of Arcadia (12-05-1591P) | The Honorable John Kimmel, Mayor, City of Arcadia, 203 West Main Street, Arcadia, WI 54612 | 203 West Main Street, Arcadia, WI 54612 | http://www.starr-team.com/starr/LOMR/Pages/RegionV.aspx | February 15, 2013 | 550439
Trempealeau | Unincorporated Areas of Trempealeau County (12-05-1591P) | The Honorable Ernest Vold, Chair, Trempealeau County Board of Supervisors, 36245 Main Street, Whitehall, WI 54773 | 36245 Main Street, Whitehall, WI 54773 | http://www.starr-team.com/starr/LOMR/Pages/RegionV.aspx | February 15, 2013 | 555585
Wyoming:
Crook | Town of Sundance (12-08-0746P) | The Honorable Paul S. Brooks, Mayor, Town of Sundance, 213 East Main Street, Sundance, WY 82729 | City Hall, 213 Main Street, Sundance, WY 82729 | http://www.bakeraecom.com/index.php/wyoming/crook/ | February 8, 2013 | 560017
Sweetwater | City of Rock Springs (12-08-0454P) | The Honorable Carl R. Demshar, Jr., Mayor, City of Rock Springs, 212 D Street, Rock Springs, WY 82901 | Department of Public Works, 212 D Street, Rock Springs, WY 82901 | http://www.bakeraecom.com/index.php/wyoming/sweetwater/ | February 11, 2013 | 560051

(Catalog of Federal Domestic Assistance No. 97.022, “Flood Insurance.”)

James A. Walke,
Acting Deputy Associate Administrator for Mitigation, Department of Homeland Security, Federal Emergency Management Agency.

[FR Doc. 2012-31652 Filed 1-3-13; 8:45 am]

BILLING CODE 9110-12-P